UNITED STATES INSTITUTE OF PEACE

Notice of Board of Directors Meeting

AGENCY: United States Institute of Peace (USIP) and Endowment of the United States Institute of Peace.

ACTION: Announcement of meeting.

SUMMARY: Quarterly meeting of the Board of Directors: Chair's Report; Vice Chair's Report; President's Report; Meeting of the Board of Directors of the Endowment of the U.S. Institute of Peace; USIP Updates: Afghanistan; Myanmar; and Central America; Approval of Minutes; Reports from USIP Building, Program, Audit & Finance, and Security Committees.

DATES: Friday, April 16, 2021 (10:00 a.m.-12:00 p.m.).

ADDRESSES: Virtual Board Meeting Information: Join by video: https://usip-org.zoomgov.com/j/1611888954?pwd=YjVDMUtCTmNHQU9CWXdlM3cvR0RUZz09; Dial-in option: +1-646-828-7666; Meeting ID: 161 188 8954/Passcode: 121110.

FOR FURTHER INFORMATION CONTACT: Megan O'Hare, 202-429-414, mohare@usip.org.

SUPPLEMENTARY INFORMATION: Open Session—Portions may be closed pursuant to Subsection (c) of Section 552(b) of Title 5, United States Code, as provided in subsection 1706(h)(3) of the United States Institute of Peace Act, Public Law 98-525.

Authority: 22 U.S.C. 4605(h)(3).

Dated: April 1, 2021.
Megan O'Hare,
Chief of Staff.

[FR Doc. 2021-07229 Filed 4-7-21; 8:45 am]

BILLING CODE 6820-AR-P